DEPARTMENT OF JUSTICE

[OMB Number 1140-NEW]

Agency Information Collection Activities; Proposed eCollection eComments Requested; Tobacco Inventory Report (ATF Form 5200.25)

AGENCY: Bureau of Alcohol, Tobacco, Firearms and Explosives, Department of Justice.

ACTION: CORRECTION for FR Doc. 2016-02818.

FOR FURTHER INFORMATION CONTACT: If you have additional comments especially on the estimated public burden or associated response time, suggestions, or need a copy of the proposed information collection instrument with instructions or additional information, please contact Joseph Fox, Field Operations, Bureau of Alcohol, Tobacco, Firearms, and Explosives, 99 New York Ave. NE., Washington, DC 20226 at telephone: 202-648-7117.

If additional information is required contact: Jerri Murray, Department Clearance Officer, United States Department of Justice, Justice Management Division, Policy and Planning Staff, Two Constitution Square, 145 N Street NE., Room 3E-405B, Washington, DC 20530.

Dated: February 18, 2016.
Jerri Murray,
Department Clearance Officer for PRA, U.S. Department of Justice.

[FR Doc. 2016-03773 Filed 2-23-16; 8:45 am]

BILLING CODE 4410-FY-P